DEPARTMENT OF HEALTH AND HUMAN SERVICES

Centers for Disease Control and Prevention

[30Day-16-16BZ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Monitoring and Reporting for the Core State Violence and Injury Prevention Program Cooperative Agreement—New—National Center for Injury Prevention and Control (NCIPC), Centers for Disease Control and Prevention (CDC).

Background and Brief Description

The Centers for Disease Control and Prevention (CDC) seeks new OMB approval to collect information from awardees funded under the Core State Violence and Injury Prevention Program cooperative agreement program (Core SVIPP). CDC's National Center for Injury Prevention and Control (NCIPC) is committed to working with its partners to promote action that reduces injuries, violence, and disabilities, by providing leadership in identifying priorities, promoting prevention strategies, developing useful tools, and monitoring the effectiveness of Injury and Violence Prevention (IVP) program activities. Unintentional and violence-related injuries and their consequences are the leading causes of death for the first four decades of life, regardless of gender, race, or socioeconomic status.

More than 192,000 individuals in the United States die each year as a result of unintentional injuries and violence, and more than 31 million others suffer non-fatal injuries requiring emergency department visits each year. Support and guidance for programs addressing IVP have been provided through cooperative agreement funding and technical assistance administered by NCIPC. Awardees report progress and activity information to NCIPC on an annual schedule using three documents: Annual Progress Report, Evaluation and Performance Management Plan, and Injury Indicator Spreadsheet. Burden is expected to vary based on awardee funding type. For example all awardees who successfully compete will be funded for the BASE component. However, awardees will also have the opportunity to compete to be funded for one or both of the Enhanced components. It is expected that those funded for Enhanced components will have a greater burden, given the requirement to report on more domains of activity.

Information to be collected will provide crucial data for program performance monitoring and provide CDC with the capacity to respond in a timely manner to requests for information about the program from the Department of Health and Human Services (HHS), the White House, Congress, and other sources. Information to be collected will also strengthen CDC's ability to monitor awardee progress, provide data-driven technical assistance, and disseminate the most current surveillance data on unintentional and intentional injuries.

The total estimated annualized burden for this collection is 3,120 hours. OMB approval is requested for three years. The only cost to respondents will be time spent on responding to the progress reports.

Estimated Annualized Burden Hours
Type of respondents | Form name | Number of respondents | Number of responses per respondent | Average burden per response (in hours)
Core SVIPP BASE Awardees | Initial Population—Annual Progress Report | 20 | 1 | 22
| Annual Progress Report | 20 | 1 | 11
| Evaluation and Performance Management Plan | 20 | 1 | 2
| Injury Indicator Spreadsheet | 20 | 1 | 14
Core SVIPP 1—Enhanced Component Awardees | Initial Population—Annual Progress Report | 5 | 1 | 73
| Annual Progress Report | 5 | 1 | 58
| Evaluation and Performance Management Plan | 5 | 1 | 3
| Injury Indicator Spreadsheet | 5 | 1 | 14
Core SVIPP 2—Enhanced Component Awardees | Initial Population—Annual Progress Report | 5 | 1 | 146
| Annual Progress Report | 5 | 1 | 116
| Evaluation and Performance Management Plan | 5 | 1 | 4
| Injury Indicator Spreadsheet | 5 | 1 | 14

Leroy A. Richardson,
Chief, Information Collection Review Office, Office of Scientific Integrity, Office of the Associate Director for Science, Office of the Director, Centers for Disease Control and Prevention.

[FR Doc. 2016-04796 Filed 3-3-16; 8:45 am]

BILLING CODE 4163-18-P